DEPARTMENT OF HEALTH AND HUMAN SERVICES

National Institutes of Health

Center for Scientific Review; Amended Notice of Meeting

Notice is hereby given of a change in the meeting of the Center for Scientific Review Special Emphasis Panel, PAR Panel: Transformative Research Award for the Include Project, November 21, 2024, 09:00 a.m. to November 21, 2024, 08:00 p.m., National Institutes of Health, Rockledge II, 6701 Rockledge Drive, Bethesda, MD 20892, which was published in the Federal Register on October 25, 2024, FR Doc. No. 2024-24882, 89 FR 85222.

This notice is being amended to change the Panel Name of the meeting from Center for Scientific Review Special Emphasis Panel; PAR Panel: Transformative Research Award for the Include Project to Center for Scientific Review Special Emphasis Panel; RFA-OD-22-009: Transformative Research Award. The meeting is closed to the public.

Dated: October 28, 2024.
Lauren A. Fleck,
Program Analyst, Office of Federal Advisory Committee Policy.

[FR Doc. 2024-25413 Filed 10-31-24; 8:45 am]

BILLING CODE 4140-01-P